DEPARTMENT OF AGRICULTURE

Animal and Plant Health Inspection Service

[Docket No. 03-021-2]

Tropical Soda Apple; Availability of an Environmental Assessment and Finding of No Significant Impact

AGENCY: Animal and Plant Health Inspection Service, USDA.

ACTION: Notice.

SUMMARY: We are advising the public that an environmental assessment and finding of no significant impact have been prepared by the Animal and Plant Health Inspection Service relative to the control of tropical soda apple, Solanum viarum Dunal (Solanaceae). The environmental assessment considers the effects of, and alternatives to, the release of a nonindigenous beetle, Gratiana boliviana Spaeth (Coleoptera: Chrysomelidae), into the environment as a biological control agent to reduce the severity of infestations of tropical soda apple in Florida and other infested States in the continental United States. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Tracy A. Horner, Ecologist, Environmental Services, PPD, APHIS, 4700 River Road Unit 149, Riverdale, MD 20737-1236; (301) 734-5213.

SUPPLEMENTARY INFORMATION:

Background

The Animal and Plant Health Inspection Service (APHIS) is considering an application from a researcher at the University of Florida for a permit to release a nonindigenous beetle, Gratiana boliviana Spaeth (Coleoptera: Chrysomelidae), into the environment to reduce the severity of infestations of tropical soda apple, Solanum viarum Dunal (Solanaceae), in Florida and other infested States in the continental United States.

Tropical soda apple is a perennial shrub that belongs to the plant family Solanaceae, section Acanthophora, genus Solanum, and subgenus Leptostemonum. A plant with foliage unpalatable to livestock, tropical soda apple can infest a pasture or rangeland in 1 to 2 years, resulting in lower stocking rates. It is native to Brazil and Argentina but has become a weed in other areas of South America and in Africa, India, Nepal, the West Indies, Honduras, Mexico, and the United States. Tropical soda apple was originally detected in the United States in Florida in 1988. The pastureland infested in 1992 was estimated to be approximately 150,000 acres; 10 years later, the infested area had increased to more than 1 million acres of improved pastures, citrus groves, sugarcane fields, ditches, vegetable crops, sod farms, forestlands, and natural areas. Tropical soda apple was listed as a Federal noxious weed in 1995, and it is listed as one of the most invasive species in Florida by the Florida Exotic Pest Plant Council. In addition to Florida, the plant has been reported in Alabama, Georgia, Mississippi, Louisiana, Texas, North Carolina, South Carolina, Tennessee, and Pennsylvania. Researchers believe that it has the potential to expand its range even further in the United States.

On March 5, 2003, we published in the Federal Register (68 FR 10435-10436, Docket No. 03-021-1) a notice in which we announced the availability, for public review and comment, of an environmental assessment (EA) that examined the potential effects of the release of the biological control agent G. boliviana, a nonindigenous tortoise beetle in the insect family Chrysomelidae, to reduce the severity of infestations of tropical soda apple in Florida and other infested States in the continental United States. Adults and larvae feed on tropical soda apple leaves, restricting the vigor and growth rate of the plants and potentially reducing the competitive advantage this invasive weed has over native vegetation.

We solicited comments on the EA for 30 days ending on April 4, 2003. We received two comments by that date. Both commenters supported the proposed action.

In this document, we are advising the public of APHIS' finding of no significant impact (FONSI) regarding the proposed field release of G. boliviana to reduce the severity of infestations of tropical soda apple in Florida and other infested States in the continental United States. The decision, which is based on the analysis found in the EA, reflects our determination that release of the beetle will not have a significant impact on the quality of the human environment.

The EA and FONSI may be viewed on the Internet at http://www.aphis.usda.gov/ppq by following the link for “Documents/Forms Retrieval System,” then clicking on the triangle beside “6—Permits—Environmental Assessments,” and selecting document number 0033. You may request paper copies of the EA and FONSI by calling or writing to the person listed under FOR FURTHER INFORMATION CONTACT. Please refer to the title of the EA when requesting copies. The EA and FONSI are also available for review in our reading room (information on the location and hours of the reading room is listed under the heading ADDRESSES at the beginning of this notice).

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 16th day of May 2003.
Kevin Shea,
Acting Administrator, Animal and Plant Health Inspection Service.

[FR Doc. 03-12989 Filed 5-22-03; 8:45 am]

BILLING CODE 3410-34-P